FEDERAL MARITIME COMMISSION

Notice of Agreement(s) Filed

The Commission hereby gives notice of the filing of the following agreement(s) under the Shipping Act of 1984. Interested parties can review or obtain copies of agreements at the Washington, DC offices of the Commission, 800 North Capitol Street, NW, Room 940. Interested parties may submit comments on an agreement to the Secretary, Federal Maritime Commission, Washington, DC 20573, within 10 days of the date this notice appears in the Federal Register.

Agreement No.: 011737-006.

Title: The MCA Agreement.

Parties:

Alianca Navegacao e Logistica Ltda.

Antillean Marine Shipping Corporation

CMA CGM, S.A.

Companhia Libra de Navegacao

Compania Sud Americana de Vapores S.A.

CP Ships (UK) Limited d/b/a ANZDL and d/b/a Contship Containerlines

Crowley Liner Services, Inc.

Dole Ocean Cargo Express, Inc.

Hamburg-Sud d/b/a Columbus Line and d/b/a Crowley American Transport

Hapag-Lloyd Container Linie

King Ocean Central America S.A.

King Ocean Service de Colombia S.A.

King Ocean Service de Venezuela S.A.

Lykes Lines Limited, LLC

Montemar Maritima S.A.

Nippon Yusen Kaisha

Norasia Container Line Limited

Wallenius Wilhelmsen Lines AS

TMM Lines Limited, LLC

Tecmarine Lines, Inc.

Tropical Shipping & Construction Co., Ltd.

Synopsis: The proposed agreement amendment adds A.P. Moller-Maersk Sealand and Safmarine Container Lines N.V. as members and includes an indemnification clause.

Agreement No.: 201026-002.

Title: New Orleans-P&O Ports France Road Terminal Lease Agreement.

Parties:

Board of Commissioners of the Port of New Orleans

P&O Ports Louisiana, Inc. d/b/a New Orleans Marine

Contractors, Inc.

P&O Ports Louisiana, Inc. d/b/a P&O Ports Louisiana

Synopsis: The amendment extends the termination date to October 31, 2002, with an optional three-year extension.

Dated: June 14, 2002.
By Order of the Federal Maritime Commission
Bryant L. VanBrakle,
Secretary.

[FR Doc. 02-15478 Filed 6-18-02; 8:45 am]

BILLING CODE 6730-01-P